DEPARTMENT OF HEALTH AND HUMAN SERVICES

Administration for Children and Families

Grants and Cooperative Agreements; Notice of Availability

Federal Agency Name: Administration for Children and Families, Office of Community Services.

Funding Opportunity Title: Community Economic Development National Philanthropic Institutions.

Announcement Type: Competitive Grant-Initial.

Funding Opportunity Number: HHS-2004-ACF-OCS-CED-0021.

CFDA Number: 93.570.

Dates: Applications are due June 25, 2004.

I. Funding Opportunity Description

The Community Services Block Grant (CSBG) Act of 1981, as amended, (Section 680 of the Community Opportunities, Accountability, and Training and Educational Services Act of 1998), authorizes the Secretary to award grants and provide technical and financial assistance for economic development activities designed to address the economic needs of low-income individuals and families by creating employment and business ownership opportunities.

The Office of Community Services (OCS) will accept competing applications for grants in the form of cooperative agreements for Community Development Corporation/National Philanthropic Institution Projects (CDC/NPI) that support neighborhood transformation and create jobs and business ownership opportunities for low-income residents of urban areas. Faith-based organizations that meet the eligibility requirements specified in this announcement may apply for these grants.

Applicants must be non-profit community development corporations (CDCs) including faith-based CDCs that:

(a) Propose a project that will focus on neighborhoods located in a city with at least 250,000 residents where a comprehensive neighborhood transformation initiative is planned or underway;

(b) Demonstrate firm and substantial support (financial or other support) for the proposed project from one or more locally based philanthropic institution(s); and

(c) Demonstrate firm and substantial support (financial or other support) for the proposed project from a consortium of national philanthropic institutions, financial institutions, and government agencies that is strengthening community development and community revitalization in urban neighborhoods throughout the nation.

Project Beneficiaries: Applicants must show that the proposed project will assist low-income persons to become economically self-sufficient by creating employment or business ownership opportunities for them or significantly aiding such residents in maintaining an economically viable business. The Poverty Income Guidelines published by the U.S. Department of Health and Human Services at http://aspe.hhs.gov/poverty.shtml are used to define “low income.” In addition, grantees may contact the OCS Operations Center to obtain a copy of the guidelines. No other government agency or privately defined poverty guidelines are applicable for the determination of low-income eligibility for these OCS programs.

Definitions of Terms

The following definitions apply:

Budget Period—The time interval into which a grant period is divided for budgetary and funding purposes.

Business Start-up Period—Time interval when the grantee completes preliminary project tasks. These tasks include but are not limited to assembling key staff, executing contracts, administering lease out or build-out of space for occupancy, purchasing plant and equipment and other similar activities. The Business Start-Up Period typically entails three to six months from when OCS awards the grant or cooperative agreement.

Cash contributions—The recipient's cash outlay, including the outlay of money contributed to the recipient by the third parties.

Community Development Corporation (CDC)—A private non-profit corporation governed by a board of directors consisting of residents of the community and business and civic leaders, which has as a principal purpose planning, developing, or managing low-income housing or community development projects.

Community Economic Development (CED)—A process by which a community uses resources to attract capital and increase physical, commercial, and business development, as well as job opportunities for its residents.

Construction projects—Projects that involve land improvements and development or major renovation of (new or existing) facilities and buildings, fixtures, and permanent attachments.

Cooperative Agreement—An award instrument of financial assistance when substantial involvement is anticipated between the awarding office, (the Federal government) and the recipient during performance of the contemplated project. Substantial involvement may include collaboration or participation by the designating awarding office staff in activities specified in the award and, as appropriate, decision-making at specified milestones related to performance. The involvement may range from joint conduct of a project to awarding office approval prior to the recipient's undertaking the next phase of a project.

Hypothesis—An assumption made in order to test a theory. It should assert a cause-and-effect relationship between a program intervention and its expected result. Both the intervention and its result must be measured in order to confirm the hypothesis. The following is a hypothesis: “Eighty hours of classroom training will be sufficient for participants to prepare a successful loan application.” In this example, data would be obtained on the number of hours of training actually received by participants (the intervention), and the quality of loan applications (the result), to determine the validity of the hypothesis (that eighty hours of training is sufficient to produce the result).

Intervention—Any planned activity within a project that is intended to produce changes in the target population and/or the environment and that can be formally evaluated. For example, assistance in the preparation of a business plan is an intervention.

Job creation—New jobs, i.e. jobs not in existence prior to the start of the project, that result from new business startups, business expansion, development of new services industries, and/or other newly-undertaken physical or commercial activities.

Job placement—Placing a person in an existing vacant job of a business, service, or commercial activity not related to new development or expansion activity.

Letter of commitment—A signed letter or agreement from a third party to the applicant that pledges financial or other support for the grant activities contingent only on OCS accepting the applicant's project proposal.

Low Income Families and Individuals—People who are living in poverty, including those who rely on public assistance such as Temporary Assistance for Needy Families (TANF). Low-income beneficiaries may also include at-risk youth, custodial and non-custodial parents, public housing residents, persons with disabilities, and people who are homeless.

Non-profit Organization—An organization, including faith-based and community-based, that provides proof of non-profit status described in the “Additional Information on Eligibility” section of this announcement.

Outcome evaluation—An assessment of project results as measured by collected data that define the net effects of the interventions applied in the project. An outcome evaluation will produce and interpret findings related to whether the interventions produced desirable changes and their potential for being replicated. It should answer the question: Did this program work?

Phase One—The time interval when grantees accomplish preliminary activities including establishing third party agreements, mobilizing monetary funds and other resources, assembling, rezoning, and leasing of properties, conducting architectural and engineering studies, constructing facilities, etc.

Phase Two—The time interval during the Project Period when businesses, commercial development or other activities are in operation, and employment, business development assistance, and so forth are provided.

Poverty Income Guidelines—Guidelines published annually by the U.S. Department of Health and Human Services that establish the level of poverty defined as low-income for individuals and their families. The guideline information is posted on the Internet at the following address: http://aspe.hhs.gov/poverty.shtml.

Philanthropic Institution—Foundations (including private, family and community foundations) and corporations (including, among other incorporated entities, banks and other lending institutions) that are providing grants and/or loans for charitable purposes, such as the elimination of slums and blight or provision of services for low-income families and individuals.

Process evaluation—The ongoing examination of the implementation of a program. It focuses on the effectiveness and efficiency of the program's activities and interventions (for example, methods of recruiting participants, quality of training activities, or usefulness of follow-up procedures). It should answer the questions such as: Who is receiving what services and are the services being delivered as planned? It is also known as formative evaluation, because it gathers information that can be used as a management tool to improve the way a program operates while the program is in progress. It should also identify problems that occurred, how the problems were resolved and what recommendations are needed for future implementation.

Program income—Gross income earned by the grant recipient that is directly generated by an activity supported with grant funds.

Project Period—The total time for which a project is approved for OCS support, including any approved extensions.

Self-employment—The employment status of an individual who engages in self-directed economic activities.

Self-sufficiency—The economic status of a person who does not require public assistance to provide for his/her needs and that of his/her immediate family.

Sub-award—An award of financial assistance in the form of money, or property, made under an award by a recipient to an eligible sub-recipient or by a sub-recipient to a lower tier sub-recipient. The term includes financial assistance when provided by any legal agreement, even if the agreement is called a contract, but does not include procurement of goods and services nor does it include any form of assistance which is excluded from the definition of “award” in 45 CFR Part 74. (Note: Equity investments and loan transactions are not sub-awards.)

Temporary Assistance for Needy Families (TANF)—The Federal block grant program authorized in Title I of the Personal Responsibility and Work Opportunity Reconciliation Act of 1996 (Pub. L. 104-193). The TANF program transformed “welfare” into a system that requires work in exchange for time-limited assistance.

Third party—Any individual, organization or business entity that is not the direct recipient of grant funds.

Third party agreement—A written agreement entered into by the grantee and an organization, individual or business entity (including a wholly owned subsidiary), by which the grantee makes an equity investment or a loan in support of grant purposes.

Third party in-kind contributions—Non-cash contributions provided by non-Federal third parties. These contributions may be in the form of real property, equipment, supplies and other expendable property, and the value of goods and services directly benefiting and especially identifiable to the project or program.

Program Purpose, Scope and Focus

OCS seeks to stimulate positive collaborative relationships between a small number of local private non-profit CDCs, locally based philanthropic institutions, and a national consortium of philanthropic institutions, financial services organizations and government agencies, to support neighborhood transformation in urban localities and to create long-term employment or business ownership opportunities for low-income people through business or commercial development.

OCS seeks to support a total of four (4) CDC/NPI projects. Each project will be in a city with 250,000 or more residents. OCS will fund projects in two phases: (1) Phase One—the initial portion of the project when the grantee CDC and its partners analyze needs and opportunities, develop collaborative relationships, and finalize plans for job creation or business ownership strategies in the context of a neighborhood transformation effort. During this phase, the CDC and its partners also develop a thorough business plan for the job creation or business ownership strategy to be implemented in Phase Two. OCS will release no more than $200,000 for this phase. (2) Phase Two—the portion of the project when the grantee CDC and its partners execute the project plan to establish the business or commercial development or other activities that create jobs or business ownership opportunities for low-income persons in the target neighborhoods. OCS will release the balance of the grant award for Phase Two activities when the grantee CDC meets relevant program requirements such as, for example, presenting a final business plan concerning the job creation or business ownership strategy.

The Cooperative Agreement

This announcement uses a cooperative agreement as the vehicle for funding Community Development Corporation/National Philanthropic Institution Projects. A cooperative agreement is an assistance instrument for which substantial involvement is anticipated between the awarding office and the recipient during performance of the funded activity. Substantial involvement may include collaboration or participation by designating awarding office staff in activities specified in the award and, as appropriate, decision-making at specified milestones related to performance. Potential types of substantial involvement under a cooperative agreement include, but are not limited to, collaborating in the design of a research protocol or a training or service delivery model; approving research protocols or analytical approaches or approving the initiation of a subsequent phase in a phased activity; training project staff in participating organizations; assisting in the evaluation of potential contractors; participating in the presentation of research results, including co-authorship of papers; or providing other assistance in program management or technical performance.

OCS and the grantee CDCs will each be responsible for particular duties and responsibilities throughout the project.

Guidance on Developing a Business Plan

Business Plans are vital for the long-term success of OCS-funded business development projects. As described by the Small Business Administration, a business plan precisely defines a business, identifies its goals, and serves as the business' resume. The plan helps the supporting CDC, the business and other partners allocate resources property, handle unforeseen complications, and make good business decisions. Please see Section VI. Award Administration Information for details about the Business Plan that will be required before the beginning of Phase Two.

II. Award Information

Funding Instrument Type: Cooperative Agreement. For a full description of the cooperative agreement please review The Cooperative Agreement in Section I.

Anticipated total priority area funding: $2,000,000.

Anticipated number of awards: 4 per project period.

Ceiling of Individual Awards: $500,000 per project period.

Floor on amount of individual awards: $500,000 per project period.

Average Projected Award Amount: $500,000 per project period.

Project Periods for Awards: Applications for projects that are exclusively construction, major alteration or renovation may request a budget and project period up to 5 years. Applications for non-construction projects may request a budget and project period up to 17 months.

III. Eligibility Information

1. Eligible Applicants

Nonprofits having a 501(c)(3) status with the IRS, other than institutions of higher education and Nonprofits that do not have a 501(c)(3) status with the IRS, other than institutions of higher education.

Faith-based organizations are eligible to apply for these grants.

Additional Information on Eligibility

Applicants must demonstrate proof of non-profit status and this proof must be included in their applications (see section IV. 2). Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

In addition to demonstrating proof of non-profit status, applicants must also demonstrate proof of CDC status. This proof must be included in their applications. Proof of CDC status is any one of the following:

• A list of governing board members along with their designation as a community resident or business or civic leader; and

• Documentation that the applicant organization has as a primary purpose planning, developing or managing low-income housing or community development activities. This documentation may include incorporation documents or other official documents that identify the organization.

Applicants are cautioned that the ceiling for individual awards is $500,000. An application that exceeds the upper value of the dollar range specified will be considered “non-responsive” and will be returned to the applicant without further review.

Applicants must demonstrate firm and substantial support (financial or other support) from one or more locally based philanthropic institution(s) and additional support from a consortium of national philanthropic institutions, financial institutions and government agencies that is strengthening community development and community revitalization in urban neighborhoods throughout the nation. OCS anticipates that funded projects will require significant financial support from other sources.

Limitations on Current Grantees: Applicants that are currently administering previously awarded OCS CED grants for Incremental Development Projects (IDP) are not eligible to receive a CDC/NPI project grant during the one-year period following the end of the project period of the last IDP grant award.

2. Cost Sharing or Matching

None.

3. Other

On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applications are cautioned that the ceiling for individual awards is $500,000. Applications exceeding the $500,000 threshold will be considered non-responsive and returned without review.

IV. Application and Submission Information

IV.1 Address To Request Application Package

Office of Community Services, Operations Center, 1815 North Fort Myer Drive, Suite 300, Arlington, Virginia 22209, E-mail: ocs@lcgnet.com, Telephone: (800) 281-9519.

URL to Obtain an Application Package: http://www.acf.hhs.gov/programs/ocs.

IV.2 Content and Form of Application Submission

This subsection provides detailed instructions for developing the application. Please see Section V “Application Review Information” for additional relevant information.

You may submit your application to us in either electronic or paper format. To submit an application electronically, please use the www.Grants.gov site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number to register in the Central Contractor Registry (CCR). You should allow a minimum of five days to complete the CCR registration.

• You will not receive additional point value because you submit a grant application in electronic format, nor will we penalize you if you submit an application in paper format.

• You may submit all documents electronically, including all information typically included on the SF 424 and all necessary assurance and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov. You must search for the downloadable application package by the CFDA number.

Application Content

Each application must include the following components:

1. Table of Contents.

2. Project Summary/Abstract—A very brief narrative that identifies the type of project, the target population and the major elements of the work plan.

3. Objectives and Needs for Assistance—A thorough description of the economic situation and needs of residents of the target neighborhood(s) and the comprehensive community building or neighborhood transformation effort that is planned or currently underway in that neighborhood.

4. Results or Benefits Expected—Identify the results and benefits to be derived. For example, the number of new jobs that will be targeted for residents.

5. Approach—An overall project plan including detailed information about strategies to be implemented during Phase One and general information about strategies planned for Phase Two, as follows:

(a) Phase One Work Plan—The project work plan should list specific activities that the applicant and its philanthropic partner(s) and other partners would implement in Phase One. These activities may including, for example: (a) Develop and disseminate information and knowledge about trends, assets, and needs in the target low-income neighborhood(s); (b) Assess issues and factors concerning the overall neighborhood transformation process in the targeted neighborhood(s) and other areas of the city and evaluate the feasibility of potential job creation projects that will address needs in the targeted low-income neighborhood(s); (c) Convene meetings and discussion groups that include community development practitioners, leaders of other community-based organizations including community action agencies and faith-based organizations, financial investors and others to discuss findings and explore new ideas for neighborhood transformation and options for job creation strategies; (d) Develop materials that promote and explain the neighborhood transformation effort including the job creation component for potential supporters such as investors and leaders of other community-based organizations; (e) Implement strategies for mobilizing resources for the neighborhood transformation effort including the job creation component; (f) Develop organizational capacity of the applicant CDC by, for example, collaborating with CDCs in other cities that are implementing CDC/NPI projects, collaborating with philanthropic institutions that support CDC/NPI projects in other cities, hiring staff, training board members, training staff and volunteers, recruiting community volunteers, and developing management systems; (g) Develop a detailed Phase Two Work Plan for implementing a strategy for developing jobs or business ownership opportunities for low-income persons in the context of the neighborhood transformation strategy.

(b) Phase Two Work Plan—The project work plan should list and discuss specific activities planned for Phase Two. The strongest applications will include firm details about specific activities that the applicant and/or its national philanthropic partner(s) or other partners will implement in Phase Two. The application must include an initial rough draft Business Plan for the business(es) or other ventures planned for Phase Two. OCS will require grantees to submit a final and thorough Business Plan after Phase One and as a condition of receiving funds for Phase Two activities. Please see Section VI. Award Administration Information for detailed instructions on the format and content of the final Business Plan. The following four project components need not be fully in place at the time of application, but they must be in place before OCS will release funds for Phase Two activities: (a) Written commitments from partners other than local philanthropic foundations and other organizations; (b) commitments of all non-OCS funding; (c) third-party agreements; and (d) acquisition or site control of any proposed development site.

6. Project Assessment/Evaluation Plan—OCS requires applicants to include an outline of a project evaluation plan. The outline should explain how the applicant proposes to answer the key questions about how effectively the project is being/was implemented, whether the project activities, or interventions, achieved the expected immediate outcomes, and why or why not (the process evaluation); and whether and to what extent the project achieved its stated goals, and why or why not (the outcome evaluation). Together, the process and outcome evaluations should answer the question: “What did this program accomplish and why did it work/not work?” Applicants should ensure, above all, that the evaluation outline presented is consistent with their project design. A clear project framework identifies the key project assumptions about the target populations and its needs, as well as the hypotheses, or expected cause-effect relationships to be tested in the project; and the proposed project activities, or interventions that will address those needs in ways that will lead to the achievement of the project goals of self-sufficiency. It also identifies in advance the most important process and outcome measures that will be used to identify performance success and expected changes in individual participants, the grantee organization, and the community. Finally, the outline should provide for prompt reporting, concurrently with the semi-annual program progress reports, of lessons learned during the course of the project. Each successful applicant must have a third-party evaluator selected and performing by the time the project work begins. Plans for selecting an evaluator should be included in the application narrative.

7. Organizational Profile—A narrative and supporting documents, as follows:

(a) Proof of Non-Profit Status—Documentation about the applicant agency's non-profit status. Please include any one of the following:

• A reference to the applicant organization's listing in the Internal Revenue Service's (IRS) most recent list of tax-exempt organizations described in the IRS code.

• A copy of a currently valid IRS tax exemption certificate.

• A statement from a State taxing body, State Attorney General, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

(b) Description of the Applicant's Relationship with a Locally Based Philanthropic Institution—A description of the applicant's relationship with one or more locally-based national philanthropic institution(s) including details about what role the philanthropic institution(s) will have in assisting the applicant with all phases of the proposed project. Applicants must include clear written commitments from the participating philanthropic institution(s) indicating that they will work in partnership with the applicant and provide significant support for the proposed job creation project.

(c) Description of the Applicant's Relationship with a National Consortium of Philanthropic Institutions—A description of the applicant's and its partner locally based philanthropic institution's relationship with a national consortium of philanthropic institutions, financial services organizations and government agencies that support neighborhood transformation in urban places. Applicants must include documents showing clear commitment from a national consortium indicating that it will work in partnership with the applicant and provide significant support for the proposed job creation project.

(d) Proof of Status as Private Non-Profit Community Development Corporation—Proof of status as a CDC. Please include any one of the following:

• A list of governing board members along with their designation as a community resident or business or civic leader; and

• Documentation that the applicant organization has as a primary purpose planning, developing or managing low-income housing or community development activities. This documentation may include incorporation documents or other official documents that identify the organization.

(e) Proof of Sufficiency of Financial Management System—The following documentation: (1) A signed statement from a Certified or Licensed Public Accountant as to the sufficiency of the applicant CDC's financial management system in accordance with HHS regulation 45 CFR part 74; and (2) Financial statements for the CDC for the prior three years. If such statements are not available because the CDC is a newly formed entity, the application must include a statement to this effect. (Note: CDC grantees are responsible for ensuring that all grant funds are expended in compliance with applicable federal regulations and Federal Office of Management Budget Circulars.)

8. Budget and Budget Justification—Standard forms and a narrative as follows:

Salary Information and Social Security Numbers: Applicants have the option of omitting from the application copies (not the original) specific salary rates or amounts for individuals specified in the application budget and Social Security Numbers. The copies may include summary salary information.

• Completed Standard Form 424—standard form signed by an official representative of the applicant CDC who has authority to obligate the organization.

• Standard Form 424A—Standard form concerning budget issues for non-construction projects.

• Narrative Budget Justification—Narrative information about each object class category required under Section B, Standard Form 424A.

Application Format

Applicants should submit one signed original application and two additional copies of the same application document.

Submit application materials on white 8½ x 11 inch paper only. Do not use colored, oversized or folded materials.

Please do not include organizational brochures or other promotional materials, slides, films, clips, etc.

The font size may be no smaller than 12 pitch and the margins must be at least one inch on all sides.

Number all application pages sequentially throughout the package, beginning with the abstract of the proposed project as page number one.

Please present application materials either in loose-leaf notebooks or in folders with pages two-hole punched at the top center and fastened separately with a slide paper fastener.

Page Limitation

The application package including sections for the Table of Contents, Project Abstract, and Project Narrative may not exceed 65 pages. The page limitation does not include the following attachments and appendices: Standard Forms for Assurances, Certifications, Disclosures, appendices, and any other supplemental documents as required in this announcement.

Required Standard Forms

Applicants requesting financial assistance for a non-construction project must sign and return Standard Form 424B, Assurances: Non-Construction Programs with their applications.

Applicants must provide a Certification Regarding Lobbying. Prior to receiving an award in excess of $100,000, applicants shall furnish an executed copy of the lobbying certification. Applicants must sign and return the certification with their applications.

Applicants must make the appropriate certification of their compliance with the requirements of the Pro-Children Act of 1994 as outlined in Certification Regarding Environmental Tobacco Smoke. By signing and submitting the applications, applicants are providing the certification and need not mail back a certification form.

Private, non-profit organizations are encouraged to submit with their applications the survey located under “Grant Related Documents and Forms” titled “Survey for Private, Non-Profit Grant Applicants.” The forms are located on the Web at http://www.acf.hhs.gov/programs/ofs/forms.htm.

IV.3 Submission Dates and Times

The closing time and date for receipt of applications is 4:30 p.m. (Eastern Standard Time) on June 25, 2004. Mailed or hand carried applications received after 4:30 p.m. on the closing date will be classified as late.

Deadline: Mailed applications shall be considered as meeting an announced deadline if they are received on or before the deadline time and date at the U.S. Department of Health and Human Services, Administration for Children and Families, Office of Community Services Operations Center, 1815 North Fort Myer Drive, Suite 300, Arlington, Virginia 22209. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the U.S. Department of Health and Human Services, Administration for Children and Families, Office of Community Services Operations Center, 1815 North Fort Myer Drive, Suite 300, Arlington, Virginia 22209, between Monday and Friday (excluding Federal holidays). This address must appear on the envelope/package containing the application with the note: “Attention: Office of Community Services Operations Center”. Applicants are cautioned that express/overnight mail services do not always deliver as agreed.

Late applications: Applications that do not meet the criteria above will be considered late applications. ACF will notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Table of Contents | A numbered list of key parts of the application | Consistent with guidance in “Application Format” section of this announcement. | By application due date.
Project Summary/Abstract | Very brief narrative that identifies the type of project, the target population and the major elements of the work plan | Consistent with guidance in the “Application Content” sub-section | By application due date.
Objectives and Needs for Assistance | Narrative that describes the economic situation and needs of residents of the target neighborhood(s) and the comprehensive community building or neighborhood transformation effort that is planned or currently underway in that neighborhood | Consistent with guidance in “Application Content” sub-section and the “Evaluation Criteria” section of this announcement | By application due date.
Results or Benefits Expected | Narrative that identifies the results and benefits to be derived. For example, the number of new jobs that will be targeted for residents | Consistent with guidance in “Application Content” sub-section and the “Evaluation Criteria” section of this announcement | By application due date.
Approach | Overall Project Work Plan including plans for Phase One and Phase Two | Consistent with guidance in “Application Content” sub-section (see above) and the “Evaluation Criteria” section of this announcement The Phase Two Work Plan should include an initial draft Business Plan concerning the businesses or other economic ventures planned for that phase of the project | By application due date.
Project Assessment/Evaluation Plan | Description of the plan to assess project outcomes include: (1) details about the evaluation design; (2) information about the proposed evaluator; and (3) plans for reporting | Consistent with guidance in “Application Content” sub-section and the “Evaluation Criteria” section of this announcement | By application due date.
Organizational Profile | Description of organizational ability including: (a) Documentation of non-profit status; (b) Description of the applicant's relationship with local philanthropic institution; (c) Description of the applicant's relationship with national consortium of philanthropic institutions, financial service institutions and government agencies; (d) Proof of Status as Private Non-Profit Community Development Corporation; and (e) Proof of Sufficiency of Financial Management System | Consistent with guidance in the “Additional Information on Eligibility” section, the “Application Content” sub-section and the “Evaluation Criteria” section of this announcement | By application due date.
Budget and Budget Justification | Budget information including: (a) Narrative budget justification; (b) Completed Standard Form 424; (c) Completed Standard Form 424A | Consistent with guidance in “Application Content” section of this announcement See Section VIII “Other Information” for guidelines for budget and budget justifications. Required Standard Forms are posted on the Internet at http://www.acf.hhs.gov/programs/ofs/forms.htm | By application due date.
Certification regarding lobbying | As per required form | Required Standard Forms are posted on the Internet at http://www.acf.hhs.gov/programs/ofs/forms.htm | By application due date.
Certification regarding environmental tobacco smoke | As per required form | Required Standard Forms are posted on the Internet at http://www.acf.hhs.gov/programs/ofs/forms.htm | By application due date.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

IV.4 Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of June 20, 2001, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington and Wyoming have elected to participate in the Executive Order process and have established Single Point of Contacts (SPOCs). Applicants from these twenty-five jurisdictions need take no action regarding Executive Order 12372.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them about the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

Comments should be submitted directly to Department of Health and Human Services, Administration for Children and Families, Office of Grants Management, Division of Discretionary Grants, 370 L'Enfant Promenade, SW., Washington, DC 20447. A list of the Single Points of Contact for each State and Territory is included with the application materials for this announcement.

IV.5 Funding Restrictions

Cost Per Job

OCS will not fund projects with a cost-per-job that exceeds $10,000 in OCS Community Economic Development (CED) grant funds. An exception will be made if the project includes purchase or major renovation of real estate. In this instance, the applicant must explain the factors that raise the cost beyond $10,000. In no instance will OCS allow for more than $15,000 cost per job in CED funds. Cost per job is calculated by dividing the number of jobs to be created by the total grant amount.

National Historic Preservation Act

If an applicant is proposing a project that will affect a property listed in, or eligible for, inclusion in the National Register of Historic Places, it must identify this property in the application narrative (the Phase One or Phase Two Work Plans) and explain how it has complied with the National Historic Preservation Act of 1996, as amended. If there is any question as to whether property is listed in or eligible for inclusion in the National Register of Historic Places, the applicant must consult with the State Historic Preservation Officer and describe in the narrative the results of this consultation.

Sub-Contracting or Delegating Projects

OCS will not consider applications that propose projects where the applicant would serve primarily as a conduit of funds to other organizations. Grantee CDCs must have a substantive role in implementing the proposed project. Grantees may award sub-grants or enter into sub-contracts with other organizations for specific services or activities.

Number of Projects in Application

Each application may include only one proposed project.

Prohibited Activities

OCS will not consider applications that propose to establish either a Small Business Investment Corporation or a Minority Enterprise Small Business Investment Corporation.

OCS will not consider applications for projects that focus primarily on education and job training or that involve training and placement for existing vacant jobs. Grantees may use OCS funds to support specific job-related training for individuals who have been selected for employment in the grant support project.

OCS will not consider applications for projects that would result in the relocation of a business from one geographic area to another resulting in job displacement.

Pre-award costs will not be covered by an award.

Limitations on Current Grantees: Applicants that are currently administering previously awarded OCS CED grants for Incremental Development Projects (IDP) are not eligible to receive a CDC/NPI project grant during the one-year period following the end of the project period of the last IDP grant award.

IV.6 Other Submission Requirements

Submission by Mail: An Applicant must provide an original application with all attachments, signed by an authorized representative and two copies. The Application must be received at the address below by 4:30 PM Eastern Standard Time on or before the closing date. Applications should be mailed to: Department of Health and Human Services (HHS), Administration for Children and Families, Office of Community Services Operations Center, 1815 Fort Meyer Drive, Suite 300, Arlington, Virginia 22209.

For Hand Delivery: Applicant must provide an original application with all attachments, signed by an authorized representative and two copies. The Application must be received at the address below by 4:30 PM Eastern Standard Time on or before the closing date. Applications that are hand delivered will be accepted between the hours of 8 a.m. to 4:30 p.m., Monday through Friday. Applications may be delivered to: Department of Health and Human Services (HHS) Administration for Children and Families, Office of Community Services Operations Center, 1815 Fort Meyer Drive, Suite 300, Arlington, Virginia 22209. It is strongly recommended that applicants obtain documentation that the application was hand delivered on or before the closing date. Applicants are cautioned that express/overnight mail services do not always deliver as agreed.

V. Application Review Information

1. Criteria

Instructions: ACF Uniform Project Description (UPD)

The following are instructions and guidelines on how to prepare the “project summary/abstract” and “Full Project Description” sections of the application. The generic UPD requirement is followed by the evaluation criterion specific to the Community Economic Development National Philanthropic Institution Projects program. Public Reporting for this collection of information is estimated to average 25 hours per response, including the time for reviewing instructions, gathering and maintaining the data needed, and reviewing the collection information.

The project description is approved under OMB Control Number 0970-0139 which expires 3/31/2004.

An agency may nor conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. Explain how the project will reach the targeted population and how it will benefit participants or the community.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in, for example, such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports, documentation of professional accreditation, information on compliance with Federal/State/local government standards, documentation of experience in the program area, and other pertinent information. A non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criterion I: Organizational Profiles (Maximum: 35 Points)

Factors:

(1) Organizational Ability and Facilities/Resources. The extent to which the application presents compelling information that the applicant CDC will successfully implement business development, commercial development, physical development, or financial service projects. The extent to which the applicant describes its facilities and other key resources (i.e., space and equipment to carry out the work plan).

(2) Staff skills, resources and responsibilities. The extent to which the application shows that the proposed staff has skills and experience appropriate for the project and that the staff will have sufficient resources and organizational support to assure timely implementation of the project in a cost-effective manner. For example, that the proposed Project Director has sufficient experience, skills and professional capabilities to manage this project and, if the Project Director or other key staff has not yet been identified, the extent to which the application describes the process that will be used to hire staff for key positions.

(3) Vital Partnerships with Philanthropic Institutions. The extent to which the applicant provides clear evidence that it is working closely with one or more local philanthropic institution(s) and a national consortium of philanthropic institutions, financial services organizations and government agencies. The extent to which the applicant provides evidence of a history of strong and productive partnership with a local philanthropic institution by, for example: Evidence of collaborative efforts; evidence of past or current support (financial or other support) from the philanthropic institution(s) and the national consortium; and information that the philanthropic institution(s) and the national consortium would provide additional resources for the proposed project.

Evaluation Criterion II: Approach (Maximum: 25 Points)

Factors:

(1) Overall project plan. The extent to which the application presents a clear and logical plan that lists the major tasks and explains how it will succeed in accomplishing the key objectives (e.g., the development of businesses and creation of jobs for low-income persons) during the Project Period. For example, the degree to which the application describes quarterly time targets for key tasks.

(2) Plan for Phase One. The extent to which the application describes a clear plan for the initial phase of the project. For example, a thorough presentation of a clear approach for developing information about the target neighborhood(s) and identifying appropriate job-creation strategies for low-income people in that area; strategies for promoting the overall neighborhood transformation project and involving other community-based organizations and other potential investors in the planning for the project; tactics for developing the organizational capacity of the applicant CDC (if warranted); and plans for creating an effective work plan for Phase Two.

(3) Plan for Phase Two. The extent to which the application describes a clear plan for Phase Two. For example, the extent to which the applicant describes firm details about specific activities that the applicant and/or its national philanthropic partner(s) or other partners will implement in Phase Two.

(4) Draft Business Plan. The extent to which the application describes an initial draft Business Plan for businesses or other ventures planned for Phase Two.

Evaluation Criterion III: Objectives and Need for Assistance (Maximum: 25 Points)

a. Description of and Responsiveness to Needs

Factors:

(1) Description of needs. The extent to which the application documents the needs of the target neighborhood(s). For example, the extent to which the application documents that both the unemployment rate and poverty level for the targeted neighborhood or community are equal or greater than the national level and cites the most recent available statistics from published sources, e.g., the recent U.S. Census or updates, the State, county, city, election district, and other information.

(2) Responsiveness to needs. The extent to which the application is responsive to needs of the target neighborhoods. For example, the extent to which the application describes the critical issues or potential problems that might have a negative affect on the project. Furthermore, the extent to which the application describes how the applicant would address these issues.

b. Resource Mobilization and Services Integration:

Factors:

(1) Support from Key Organizations. The extent to which the application describes how the applicant would mobilize needed assistance from public and private sources. For example, the extent to which the application describes funding or other vital resources including in-kind contributions from non-federal sources for the project.

(2) Coordination with Partner Agencies and Private Organizations. The extent to which the application demonstrates that the applicant has commitments or agreements with local agencies responsible for administering child support enforcement, the local Temporary Assistance for Needy Families (TANF) program or the local employment education, and training programs to ensure that welfare recipients, at-risk youth, displaced workers, public housing tenants, homeless and low-income individuals, and low-income custodial and non-custodial parents will be trained and placed in the newly created jobs.

Evaluation Criterion IV: Results or Benefits Expected (Maximum: 10 Points)

a. Benefits Expected

Factors:

(1) Measurable Results. The extent to which the application will produce permanent and measurable results including, but not limited to, employment and business development opportunities that reduce poverty and the need for TANF assistance in the community and thus enable families to be economically self-sufficient.

(2) Permanent Employment for Area Residents. The extent to which the applicant demonstrates that the project will, during the project period, result in new, permanent jobs or maintain permanent jobs for low-income residents at a cost-per-job not to exceed $10,000 in OCS funds. For example, the extent to which the applicant documents that the jobs to be created for low-income people have career development opportunities that will promote self-sufficiency.

b. Evaluation Design

Factors:

(1) Evaluation Design. The extent to which the application presents a through outline of an evaluation plan that identifies the principal cause-and-effect relationships to be tested, and that demonstrates the applicant's understanding of the role and purpose of both process and outcome evaluations. For example, the extent to which the application indicates that the applicant is committed to the selection of a third-party evaluator approved by OCS. Furthermore, the extent to which the applicant demonstrates that they will be able to complete a final evaluation design and plan, in collaboration with the approved evaluator and the OCS Evaluation Technical Assistance provider during the six-month start-up period of the project.

(2) Third-Party Evaluator. The extent to which the applicant identifies and describes a proposed third-party evaluator and demonstrates that the proposed evaluator is knowledgeable about, and has experience in, conducting process and outcome evaluations in the job creation field, and has a thorough understanding of the range and complexity of the problems faced by the target population.

(3) Project Reporting. The extent to which the application presents a reporting format based on its proposed activities and their effectiveness. For example, the extent to which the applicant proposes to submit semi-annual program progress reports that will provide OCS with insights and lessons learned concerning the various aspects of the work plan, such as recruitment, training, support, public-private partnerships, and coordination with other community resources, as they may be relevant to the proposed project.

Criterion V: Budget and Budget Justification (Maximum: 5 Points)

Factors:

(1) Budget Amount. The extent to which the applicant seeks funding in an amount that is commensurate with the level of effort necessary to accomplish the goals and objectives of the project. For example, the extent to which the estimated cost to the government of the project is reasonable in relation to the anticipated results.

(2) Budget Detail. The extent to which the application includes a detailed budget breakdown and a narrative justification for each of the budget categories in the SF-424A. For example, the extent to which the applicant presents a reasonable administrative cost.

V.2 Review and Selection Process

OCS Evaluation of Applications

Applications that pass the initial program eligibility screening will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The OCS Director and program staff use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with OCS funds granted in the last five (5) years; comments of reviewers and government officials; staff evaluation and input; amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowance on previous OCS or other Federal agency grants.

Funding Considerations: In cases where an application ranks high and is competitive, the following may apply: (a) Previous performance of the applicant is an important determining factor in the grant award decision; (b) OCS may conduct a pre-award site visit to assess an applicant prior to making a final determination on the grant award.

VI. Award Administration Information

VI.1 Award Notices

Following approval of the applications selected for funding, notice of project approval and authority to draw down projects will be made in writing. The official award document is the Financial Assistance Award, which provides the amount of Federal funds approved for use in the project, the project and budget periods for which support is provided, the terms and conditions of the award, and the total project period for which support is contemplated. The Financial Assistance Award will be signed by the Grants Officer.

VI.2 Administrative and National Policy Requirements

Grantees are subject to the requirements in 45 CFR part 74 (non-governmental) or 45 CFR part 92 (governmental).

Upon successful completion of Phase I, the final and thorough Phase II Business Plan is due. Applicants NEED NOT submit this information with their applications. However, applicants should note that this information will be required prior to receiving funds for Phase II activities. The Phase II Business Plan must follow the following format and include the following information:

(1) Executive Summary.

(2) Description of the business: The business as a legal entity and its general business category. Business activities must be described by Standard Industrial Codes (SIC) using the North American Industry Classification System (NAICS) and jobs by occupational classification. This information is published by the U.S. Department of Commerce in the Statistical Abstract of the United States, 1998, Tables No. 679 and 680. These tables include information necessary to meet this requirement.

(3) Description of the industry, current status and prospects.

(4) Products and services, including detailed descriptions of:

(a) Products or services to be sold;

(b) Proprietary position of any of the product, e.g., patents, copyright, trade secrets;

(c) Features of the product or service that may give it an advantage over the competition;

(5) Market Research: This section describes the research conducted to assure that the business has a substantial market to develop and achieve sales in the face of competition. This includes researching:

(a) Customer base: Describe the actual and potential purchasers for the product or service by market segment.

(b) Market size and trends: Describe the site of the current total market for the product or service offered;

(c) Competition: Provide an assessment of the strengths and weaknesses of the competition in the current market;

(d) Estimated market share and sales: Describe the characteristics of the product or service that will make it competitive in the current market;

(6) Marketing Plan: The marketing plan details the product, pricing, distribution, and promotion strategies that will be used to achieve the estimated market share and sales projections. The marketing plan must describe what is to be done, how it will be done and who will do it. The plan addresses overall marketing, strategy, packaging, service and warranty, pricing, distribution and promotion.

(7) Design and Development Plans: If the product, process or service of the proposed venture requires any design and development before it is ready to be placed on the market, describe the nature, extent and cost of this work. The section covers items such as development status and tasks, difficulties and risks, product improvement and new products and costs.

(8) Operations Plan: An operations plan describes the kind of facilities, site location, space, capital equipment and labor force (part and/or full time and wage structure) that are required to provide the company's product or service.

(9) Management Team: This section describes the technical, managerial and business skills and experience to be brought to the project. It is a description of key management personnel and their primary duties; compensation and/or ownership; the organizational structure and placement of this proposed project within the organization; the board of directors; management assistance and training needs; and supporting professional services.

(10) Overall Schedule: This section is the implementation plan which shows the timing and interrelationships of the major events or benchmarks necessary to launch the venture and realize its objectives. This includes a month-by-month schedule of activities such as product development, market planning, sales programs, production and operations. If the proposed project is for construction, this section lays out timeframes for conduct of predevelopment, architectural, engineering and environmental and other studies, and acquisition of permits for building, use and occupancy that are required for the project.

(11) Job Creation: This section describes the job creation activities and projections expected as a result of this project. This includes a description of the strategy that will be used to identify and hire individuals who are low-income, including those on TANF. This section includes the following:

(a) The number of permanent jobs that will be created during the project period, with particular emphasis on jobs for low-income individuals.

(b) For low-income individuals, the number of jobs that will be filled by low income individuals (this must be at least 60 percent of all jobs created); the number of jobs that have career development opportunities and a description of those jobs; the number of jobs that will be filled by individuals receiving TANF; the annual salary expected for each person employed.

(c) For low income individuals who become self-employed, the number of self-employed and other ownership opportunities created; specific steps to be taken including on-going management support and technical assistance provided by the grantee or a third party to develop and sustain self-employment after the businesses are in place; and expected net profit after deductions of business expenses.

Note: OCS will not recognize job equivalents nor job counts based on economic multiplier functions; jobs must be specifically identified.

(12) Financial Plan: The financial plan demonstrates the economic supports underpinning the project. It shows the project's potential and the timetable for financial self-sufficiency. The following exhibits must be submitted for the first three years of the business's operation:

(a) Profit and Loss Forecasts—quarterly for each year;

(b) Cash Flow Projections—quarterly for each year;

(c) Pro forma balance sheets—quarterly for each year;

(d) Sources and Use of Funds Statement for all funds available to the project;

(e) Brief summary discussing any further capital requirements and methods or projected methods for obtaining needed resources.

(13) Critical Risks and Assumptions: This section covers the risks faced by the project and assumptions surrounding them. This includes a description of the risks and critical assumptions relating to the industry, the venture, its personnel, the product or service market appeal, and the timing and financing of the venture.

(14) Community Benefits: This section describes other economic and non-economic benefits to the community such as development of a community's physical assets; provision of needed, but currently unsupplied, services or products to the community; or improvement in the living environment.

VI.3 Reporting

All grantees are required to submit semi-annual program and financial reports (SF-269) with a final report due 90 days after the project end date. A suggested format for the program report will be sent to all grantees after the awards are made.

VII. Agency Contacts

Program Office Contact

Debbie Brown, Office of Community Services, 370 L'Enfant Promenade, SW., Suite 500 West, Aerospace Building, Washington, DC 20447-0002, E-mail: dbrown@acf.hhs.gov, Telephone: (202) 401-3446.

Grants Management Office Contact

Barbara Ziegler Johnson, Office of Grants Management, Division of Discretionary Grants, 370 L'Enfant Promenade, SW., Aerospace Building, Washington, DC 20447-0002, E-mail: bziegler-johns@acf.hhs.gov, Telephone: (202) 401-4646.

General Contact

Office of Community Services, Operations Center, 1815 North Fort Myer Drive, Suite 300, Arlington, Virginia 22209, E-mail: ocs@lcgnet.com, Telephone: (800) 281-9519.

VIII. Other Information

Additional information about this program and its purpose can be located on the following Web site: http://www.acf.hhs.gov/programs/ocs.

Dated: April 29, 2004.
Clarence H. Carter,
Director, Office of Community Services.

[FR Doc. 04-10555 Filed 5-10-04; 8:45 am]

BILLING CODE 4184-01-P